DEPARTMENT OF TRANSPORTATION

Federal Railroad Administration

[Docket No. FRA-2022-0002-N-24]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On November 14, 2022, FRA published a notice providing a 60-day period for public comment on the ICR.

DATES: Interested persons are invited to submit comments on or before October 16, 2023.

ADDRESSES: Written comments and recommendations for the proposed ICR should be sent within 30 days of publication of this notice to www.reginfo.gov/public/do/PRAMain. Find the particular ICR by selecting “Currently under 30-day Review—Open for Public Comments” or by using the search function.

FOR FURTHER INFORMATION CONTACT: Ms. Arlette Mussington, Information Collection Clearance Officer, at email: Arlette.Mussington@dot.gov or telephone: (571) 609-1285, or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On November 14, 2022, FRA published a 60-day notice in the Federal Register soliciting comment on the ICR for which it is now seeking OMB approval. See 87 FR 68226. FRA received one comment from the Association of American Railroads (AAR) related to the proposed collection of information.

On January 13, 2023, AAR submitted a spreadsheet containing suggestions for changes to the proposed collection. AAR's suggestions fell into three categories: (1) changes to the data validation and listed options, (2) options to fill in a cell with a blank, “N/A”, or “Other” if there was not a valid option in the proposed list, and (3) general changes to the form's instructions to improve clarity.

For data validation and listed options, AAR asked that the software version numbers allow for free text, so versions such as “6.3.24.2” be allowed rather than just numbers with a single decimal point, such as 6.3. The restrictions on the cell were removed to allow for free text entry. AAR additionally asked that, for “Type of Reportable Issue”, a listed option be changed to “Previously Unidentified Hazard” from the incorrectly listed prior two options that stated “Previously” and “Unidentified Hazard.” In the dropdown list, the two original line items were combined into “Previously Unidentified Hazard” to correct for the typographical error.

AAR asked for the option to fill in many cells with “N/A”, a blank, or provide an “Other” option to record additional entries outside of the original list. Doing so would allow for cases where an entity might not know the information requested but could provide an answer to the form rather than leaving it blank. For example, positive train control (PTC) Suppliers or Vendors do not often know confidential information about the railroad, such as mile posts or track segment designations, and this option would allow them to submit without knowing milepost or track segment associated with the failure. The following sections now allow for “N/A” or “Other” options: “Affected Railroad, Supplier or Vendor”, “Track Segment”, and “Nature of Failure”.

Additionally, several of the form instructions were clarified or elaborated on as requested by AAR. The revisions did not require changing the context of a cell, but rather allowed for multiple cases and a better understanding of what FRA is asking for within the form. The following sections were updated: “Submission Instructions”, “Additional Affected Railroad(s), Supplier(s), or Vendor(s).” As the “Submission Instructions” were updated, FRA elected not to revise the instructions next to the cells themselves as the revisions that were made were sufficient.

Finally, AAR made two suggestions that FRA did not act on. First, AAR recommended removing the “Estimated Date to Correct Failure” field. However, this is required per regulatory compliance, so FRA has not removed this field. Second, AAR noted that the proposed form cells need to “grow” as text is entered. FRA conducted testing on several noted cells, such as the “Synopsis” field, and confirmed that the field did expand as the user entered more text.

Before OMB decides whether to approve the proposed collection of information, it must provide 30 days for public comment. Federal law requires OMB to approve or disapprove paperwork packages between 30 and 60 days after the 30-day notice is published. 44 U.S.C. 3507(b)-(c); 5 CFR 1320.12(a); see also 60 FR 44978, 44983 (Aug. 29, 1995). OMB believes the 30-day notice informs the regulated community to file relevant comments and affords the agency adequate time to digest public comments before it renders a decision. 60 FR 44983 (Aug. 29, 1995). Therefore, respondents should submit their respective comments to OMB within 30 days of publication.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Positive Train Control and Other Signal Systems.

OMB Control Number: 2130-0553.

Abstract: FRA's regulations require that both railroads and PTC vendors and suppliers notify FRA of certain PTC system errors and malfunctions. 49 CFR 236.1023. For example, railroads must maintain a database of all safety-relevant hazards identified in their PTC Safety Plans (PTCSP) and those that had not previously been identified in their PTCSPs. 49 CFR 236.1023(e). If the frequency of a safety-relevant hazard exceeds the thresholds in a railroad's PTCSP, or such hazard has not been previously identified in a railroad's risk analysis, then the railroad must notify FRA of the failure, malfunction, or defective condition that decreased or eliminated the safety functionality of the railroad's PTC system. 49 CFR 236.1023(e)(1). In addition, FRA's regulations require PTC vendors and suppliers to notify FRA of any safety-relevant failure, defective condition, or previously unidentified hazard discovered by the vendor or supplier and the identity of each affected and notified railroad. 49 CFR 236.1023(h)(2). Currently, each railroad or PTC vendor and supplier that must submit notifications of such a failure, malfunction, or defective condition does so by emailing the information to an FRA inbox (FRAPart2361023Notification@dot.gov). The information is sent in different formats by each railroad or PTC supplier and vendor because there is currently no standardized form.

Therefore, FRA is hereby proposing to standardize the reporting process required by 49 CFR 236.1023(e)(1), (h), and (f) by creating the Errors and Malfunctions Notification Form (Form FRA F 6180.179), which is one part of the existing information collection request under OMB Control No. 2130-0553. This proposed Form FRA F 6180.179 will be in an Excel format and will make it easier for the entities to notify FRA of each applicable failure, malfunction, or defective condition, and for FRA to synthesize and act on the reported failure. The Errors and Malfunctions Notification Form would not change the requirements that each railroad or PTC supplier and vendor currently must follow to notify FRA of each reportable failure, malfunction, or defective condition. See, e.g., 49 CFR 236.1023(e), (h), and (f). The proposed Form FRA F 6180.179 would be submitted to FRAPart2361023Notification@dot.gov within the 15-day deadline under 49 CFR 236.1023(f)(1).

With the current reporting process, FRA estimated that each notification would take 8 hours to prepare. With the new standardized Form, FRA estimates that, on average, each notification will be reduced to 7.5 hours to prepare if the railroad or PTC supplier or vendor uses the FRA-provided Excel Form. This estimate is based on the fact that the proposed new Form FRA F 6180.179 offers drop-down menus that would allow railroads or PTC suppliers and vendors to select an answer from an established list instead of creating each answer from scratch. The revised burden would also account for the review of the instructions in the FRA-provided Excel Form. Thus, FRA estimates that by creating this Form, the total annual burden hours will decrease by 14 hours.¹

¹ The current inventory exhibits a total burden of 51,993 hours and 4,567,826 responses, while the total burden in this notice is 51,930 hours and 4,567,826 responses. As noted in the 60-day FRN, the decrease in burden is due to the proposed standardized reporting process using FRA F 6180.179 and in this notice, FRA has made adjustments to correct rounding errors in previously reported burden hours.

Type of Request: Revision to a currently approved collection.

Affected Public: Businesses.

Form(s): FRA F 6180.179 (new form) and FRA F 6180.152 (existing form).²

² OMB-approved form FRA F 6180.152 remains unchanged.

Respondent Universe: 742 railroads and 10 vendors.³

³ While included in the PRA table published, FRA inadvertently did not include the 10 vendors as part of the respondent universe summary.

Frequency of Submission: On occasion.

Total Estimated Annual Responses: 4,567,826.

Total Estimated Annual Burden: 51,930 hours.

Total Estimated Annual Burden Hour Dollar Cost Equivalent: $4,324,155.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2023-19976 Filed 9-14-23; 8:45 am]

BILLING CODE 4910-06-P